DEPARTMENT OF HEALTH AND HUMAN SERVICES

Renewal of Charter for the Presidential Advisory Council on HIV/AIDS

AGENCY: Department of Health and Human Services, Office of the Secretary, Office of the Assistant Secretary for Health, Office of HIV/AIDS Policy.

ACTION: Notice.

SUMMARY: The Department of Health and Human Services is hereby giving notice that the charter for the Presidential Advisory Council on HIV/AIDS (PACHA; the Council) has been renewed.

FOR FURTHER INFORMATION CONTACT: Mr. Melvin Joppy, Committee Manager, Presidential Advisory Council on HIV/AIDS, Department of Health and Human Services, 200 Independence Avenue, SW., Room 443H Humphrey Building, Washington, DC 20201; (202) 690-5560. More detailed information about PACHA can be obtained by accessing the Council's Web site, http://www.pacha.gov.

SUPPLEMENTARY INFORMATION: PACHA is a discretionary Federal advisory committee. The Council was established under Executive Order 12963, dated June 14, 1993, and amended under Executive Order 13009, dated June 14, 1995. The Council provides advice, information, and recommendations to the Secretary regarding programs and policies to promote effective prevention and cure of HIV disease and AIDS. The functions of the Council are solely advisory in nature.

To carry out its mission, PACHA provides advice, information, and recommendations to the Secretary regarding programs and policies to (a) reduce HIV incidence; (b) advance research on HIV/AIDS; (c) improve health outcomes and ensure people living with HIV have access to quality health care; (d) address HIV-related health disparities; and (e) provide global leadership in responding to the HIV pandemic and expand access to treatment, care, and prevention for people infected with and affected by HIV/AIDS around the world.

On July 27, 2011, the Secretary of Health and Human Services approved for the PACHA charter to be renewed. The new charter was effected and filed with the appropriate Congressional offices and Library of Congress on July 27, 2011. Renewal of the PACHA charter gives authorization for the Council to continue to operate until July 27, 2013.

A copy of the PACHA charter is available on the Council Web site at http://www.pacha.gov. A copy of the charter also can be obtained by accessing the FACA database that is maintained by the Committee Management Secretariat under the General Services Administration. The Web site address for the FACA database is http://www.fido.gov/facadatabase.

Christopher H. Bates.
Executive Director, Presidential Advisory Council on HIV/AIDS.

[FR Doc. 2011-20230 Filed 8-8-11; 8:45 am]

BILLING CODE 4150-43-P